DEPARTMENT OF ENERGY

Federal Energy Regulatory Commission

[Docket No. RP04-29-000]

Florida Gas Transmission Company; Notice of Proposed Changes in FERC Gas Tariff

October 29, 2003.

Take notice that on October 22, 2003, Florida Gas Transmission Company (FGT) tendered for filing to become part of its FERC Gas Tariff, Third Revised Volume No. 1 (Tariff) effective November 1, 2003, the following tariff sheets:

1st Revised Sixty-First Revised Sheet No. 8A

1st Revised Fifty-Third Revised Sheet No. 8A.01

1st Revised Fifty-Third Revised Sheet No. 8A.02

Twelfth Revised Sheet No. 8A.04

1st Revised Fifty-Sixth Revised Sheet No. 8B

1st Revised Forty-Ninth Revised Sheet No. 8B.01

1st Revised Sixth Revised Sheet No. 8B.02

FGT states that on October 1, 2003, FGT filed a Section 4 Rate Case with a proposed effective date of November 1, 2003. FGT states that in anticipation that the Commission will exercise its authority under Section 4(e) of the NGA to suspend the effective date of the tariff sheets related to that filing, the proposed tariff revisions have been modified from the currently effective tariff sheets filed August 29, 2003 in Docket No. RP03-582-000.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Magalie R. Salas,
Secretary.

[FR Doc. E3-00162 Filed 11-3-03; 8:45 am]

BILLING CODE 6717-01-P